DEPARTMENT OF THE TREASURY

Submission for OMB Review; Comment Request

January 26, 2016.

The Department of the Treasury will submit the following information collection requests to the Office of Management and Budget (OMB) for review and clearance in accordance with the Paperwork Reduction Act of 1995, Public Law 104-13, on or after the date of publication of this notice.

DATES: Comments should be received on or before February 29, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Departmental Offices

OMB Control Number: 1505-0170.

Type of Review: Extension of a currently approved collection.

Title: Form for OFAC License Applications to Unblock Funds Transfers.

Form: TD F 90-22.54.

Abstract: Assets blocked pursuant to sanctions administered by Treasury's Office of Foreign Assets Control (OFAC) may be released only through a specific license issued by OFAC. Since February 2000, use of this form to apply for the unblocking of funds transfers has been mandatory pursuant to 31 CFR 501.801(b)(2).

Affected Public: Businesses or other for-profits.

Estimated Average Annual Burden per Response: 30 minutes.

Estimated Total Annual Burden Hours: 1,200.

OMB Control Number: 1505-0208.

Type of Review: Extension of a currently approved collection.

Title: Terrorism Risk Insurance Program—Cap on Annual Liability.

Abstract: The Terrorism Risk Insurance Act of 2002, as amended (TRIA), established the Terrorism Risk Insurance Program (TRIP), which the Secretary of the U.S. Department of the Treasury (Secretary) administers, with the assistance of the Federal Insurance Office. Section 103(e) of TRIA sets a limit on the annual liability for insured losses at $100 billion. This section requires the Secretary to notify Congress not later than 15 days after an act of terrorism as to whether aggregate insured losses are estimated to exceed the cap. TRIA also requires the Secretary to determine the pro rata share of insured losses under the program when insured losses exceed the cap, and to issue regulations for carrying this out. In order to meet these requirements, Treasury may need to obtain loss information from involved insurers.

Affected Public: Businesses or other for-profits.

Estimated Average Annual Burden per Response: 5 hours.

Estimated Total Annual Burden Hours: 1,000.

Brenda Simms,
Treasury PRA Clearance Officer.

[FR Doc. 2016-01708 Filed 1-28-16; 8:45 am]

BILLING CODE 4810-25-P